DEPARTMENT OF ENERGY

Federal Energy Regulatory Commission

[Docket No. EL00-70-000]

New York State Electric & Gas Corporation, Complainant v. New York Independent System Operator, Inc., Respondent; Notice of Complaint

April 25, 2000.

Take notice that on April 24, 2000, New York State Electric & Gas Corporation (NYSEG) submitted a Complaint pursuant to Section 206 of the Federal Power Act against the New York Independent System Operator (NYISO) and a request for an emergency technical conference. The Complaint seeks to suspend market-based rates and to require suppliers within the New York Control Area (NYCA) to use cost-based bids for energy markets in the NYCA, or alternative proposed remedies, in advance of the summer peak season.

Copies of the filing were served upon the NYISO and other interested parties.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before May 5, 2000. Protests will be considered by the Commission in determining the appropriate action to be taken, but will not serve to make protestants parties to the proceedings. Any person wishing to become a party must file a motion to intervene. Copies of this filing are on file with the Commission and are available for public inspection in the Public Reference Room. This filing may also be viewed on the Internet at http://www.ferc.fed.us/online/rims.htm (call 202-208-2222 for assistance). Answers to the complaint shall also be due on or before May 5, 2000.

Linwood A. Watson, Jr.,
Acting Secretary.

[FR Doc. 00-10718 Filed 4-28-00; 8:45 am]

BILLING CODE 6717-01-M